DEPARTMENT OF HOMELAND SECURITY

Federal Emergency Management Agency

Agency Information Collection Activities: Submission for OMB Review; Comment Request

AGENCY: Federal Emergency Management Agency, DHS.

ACTION: Notice and request for comments.

SUMMARY: The Federal Emergency Management Agency (FEMA) has submitted the following information collection to the Office of Management and Budget (OMB) for review and clearance in accordance with the requirements of the Paperwork Reduction Act of 1995. The submission describes the nature of the information collection, the categories of respondents, the estimated burden (i.e., the time, effort and resources used by respondents to respond) and cost, and includes the actual data collection instruments FEMA will use.

Title: National Fire Academy End of Course Evaluation Form.

OMB Number: 1660-0032.

Abstract: The National Fire Academy (NFA) is mandated under the Fire Prevention and Control Act of 1974 (Pub. L. 93-498) to provide training and education to the Nation's fire service and emergency service personnel. The NFA End of Course Evaluation Form is used to evaluate all traditional classroom based course deliveries. The data provided by students evaluating NFA courses are used to determine the need for course improvements and the degree of student satisfaction with the training experience. All on-campus resident courses will use an online electronic form and all off-campus courses delivered at the state and local level will use a paper-based version of the form.

Affected Public: Individuals and households.

Number of Respondents: 14,000.

Estimated Time per Respondent: 0.25 hours.

Estimated Total Annual Time Burden: 3,500 hours.

Annual Frequency of Response: 1.

Comments: Interested persons are invited to submit written comments on the proposed information collection to the Office of Information and Regulatory Affairs, Office of Management Budget, Attention: Nathan Lesser, Desk Officer, Department of Homeland Security/FEMA, and sent via electronic mail to oira_submission@omb.eop.gov or faxed to (202) 395-6974. Comments must be submitted on or before May 2, 2007.

FOR FURTHER INFORMATION CONTACT: Requests for additional information or copies of the information collection should be made to Chief, Records Management, FEMA, 500 C Street, SW., Room 609, Washington, DC 20472, facsimile number (202) 646-3347, or e-mail address FEMA-Information-Collections@dhs.gov.

Dated: March 27, 2007.
John A. Sharetts-Sullivan,
Chief, Records Management and Privacy, Information Resources Management Branch, Information Technology Services Division, Federal Emergency Management Agency, Department of Homeland Security.

[FR Doc. E7-6073 Filed 3-30-07; 8:45 am]

BILLING CODE 9110-17-P